DEPARTMENT OF EDUCATION

[Docket No.: ED-2017-ICCD-0054]

Agency Information Collection Activities; Submission to the Office of Management and Budget for Review and Approval; Comment Request; Consolidated State Plan Assurances Template

AGENCY: Office of Elementary and Secondary Education (OESE), Department of Education (ED).

ACTION: Notice.

SUMMARY: In accordance with the Paperwork Reduction Act of 1995, ED is proposing a non-substantive change to an existing collection.

DATES: Interested persons are invited to submit comments on or before May 5, 2017.

ADDRESSES: To access and review all the documents related to the information collection listed in this notice, please use http://www.regulations.gov by searching the Docket ID number ED-2017-ICCD-0054. Comments submitted in response to this notice should be submitted electronically through the Federal eRulemaking Portal at http://www.regulations.gov by selecting the Docket ID number or via postal mail, commercial delivery, or hand delivery. Please note that comments submitted by fax or email and those submitted after the comment period will not be accepted. Written requests for information or comments submitted by postal mail or delivery should be addressed to the Director of the Information Collection Clearance Division, U.S. Department of Education, 400 Maryland Avenue SW., LBJ, Room 226-62, Washington, DC 20202-4537.

FOR FURTHER INFORMATION CONTACT: For specific questions related to collection activities, please contact Melissa Siry, (202)260-0926.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology.

Note: OESE requests public comment on a non-substantive change to an existing collection approved under 1810-0576 currently running a separate comment period under ED-2017-ICCD-0021. OESE is seeking OMB approval to use these non-substantive changes to the assurances data collection instrument by May 17, 2017. You may provide comments to the assurances template under 1810-0576 ED-2017-ICCD-0054 by May 5, 2017. Please note that written comments received in response to this notice will be considered public records.

Title of Collection: Consolidated State Plan Assurances Template.

OMB Control Number: 1810-0576.

Type of Review: Non-substantive change to an existing collection.

Respondents/Affected Public: State, Local and Tribal Governments.

Total Estimated Number of Annual Responses: 52.

Total Estimated Number of Annual Burden Hours: 108,155.

Abstract: On March 9, 2017, pursuant to the Congressional Review Act (CRA) (5 U.S.C. 801-808), Congress approved a joint resolution disapproving the U.S. Department of Education's (Department's) regulations related to State plans, including consolidated State plans, statewide accountability systems, and data reporting. The President signed the Congressional resolution on March 27, 2017, which means that the regulations have no force or effect. As a result, the Department updated the assurances that each State must submit in order to receive FY 2017 funding to align only with the statutory assurances required in ESEA Section 8304. The revised assurances template includes an annotated version of ESEA Section 8304 which specifically references consultation requirements and two certifications that SEAs are assuring to by completing the assurances template. Finally, we included a reference, with no associated burden, to other approved forms the SEA will need to complete.

Dated: April 24, 2017.
Tomakie Washington,
Acting Director, Information Collection Clearance Division, Office of the Chief Privacy Officer, Office of Management.

[FR Doc. 2017-08494 Filed 4-26-17; 8:45 am]

BILLING CODE 4000-01-P